DEPARTMENT OF ENERGY

Federal Energy Regulatory Commission

[Docket Nos. CP05-119-004 and CP05-121-003]

Cameron Interstate Pipeline, LLC; Notice of Application To Amend Certificate

June 27, 2008.

Take notice that on June 20, 2008, Cameron Interstate Pipeline, LLC (Cameron Pipeline) filed with the Federal Energy Regulatory Commission an application under section 7 of the Natural Gas Act to amend its existing certificate of public convenience and necessity. The application seeks authority for Cameron Pipeline to increase the maximum authorized certificated capacity of its facilities and to revise its transportation rates, all as more fully set forth in the application which is on file with the Commission and open to the public for inspection.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

The authorized contact person for Cameron Pipeline is William Rapp, 101 Ash Street, San Diego, CA 92101. The telephone number is (619) 699-5050.

Pursuant to section 157.9 of the Commission's rules, 18 CFR 157.9, within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

In this application, Cameron Pipeline seeks (i) to increase the maximum authorized firm capacity of Cameron Pipeline's facilities to 2.35 Bcf per day from the currently-authorized level of 1.5 Bcf per day; and (ii) approval of revised maximum transportation rates that reflect both the proposed new level of authorized capacity and updated construction costs. The estimated cost of construction of Cameron Pipeline's facilities, (36.5 miles of 42-inch pipeline, interconnections, metering and appurtenant facilities) and is now about $195 million, an increase of $80 million from the estimate provided in its previous amendment in 2006. Cameron Pipeline says that its request for an increase in authorized capacity will align the maximum authorized capacity with the actual firm capacity of Cameron Pipeline's facilities, when they are completed and placed into service. Cameron Pipeline proposes that its maximum interruptible and firm transportation rates be decreased from the levels previously approved by the Commission. Specifically, Cameron Pipeline proposes that the maximum interruptible rate will decrease from $.0528 to $.0447, and the maximum firm rate will decrease from $1.6056 to $1.3607.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: 5 p.m. Eastern Time on July 18, 2008.

Kimberly D. Bose,
Secretary.

[FR Doc. E8-15215 Filed 7-3-08; 8:45 am]

BILLING CODE 6717-01-P